NATIONAL SCIENCE FOUNDATION

Committee on Equal Opportunities in Science and Engineering (CEOSE); Notice of Meeting

In accordance with the Federal Advisory Committee Act (Pub. L. 92-463, as amended), the National Science Foundation announces the following meeting:

Name: Committee on Equal Opportunities in Science and Engineering (1173).

Dates/Time: October 30, 2012, 10 a.m.-5:30 p.m.; October 31, 2012, 9 a.m.-12:30 p.m.

Place: National Science Foundation (NSF), 4201 Wilson Boulevard, Arlington, VA 22230.

To help facilitate your entry into the building, contact the individual listed below. Your request should be received by email (banderso@nsf.gov) on or prior to October 25, 2012.

Type of Meeting: Open.

Contact Person: Dr. Bernice T. Anderson, Senior Advisor and CEOSE Designated Federal Officer, Office of International and Integrative Activities, National Science Foundation, 4201 Wilson Boulevard, Arlington, VA 22230. Telephone Numbers: (703) 292-5151, (703) 292-8040 email: banderso@nsf.gov.

Minutes: Meeting minutes and other information may be obtained from the Senior Advisor and CEOSE Designated Federal Officer at the above address or the Web site at http://www.nsf.gov/od/oia/activities/ceose/index.jsp.

Purpose of Meeting: To study data, programs, policies, and other information pertinent to the National Science Foundation and to provide advice and recommendations concerning broadening participation in science and engineering.

Agenda

Tuesday, October 30, 2012

Opening Statement by the CEOSE Chair

Presentations and Discussions

• Concurrence on the CEOSE Minutes of the June 19-20, 2012 Meeting

• Presentation of Key Points from the Meeting among the National Science Foundation Director and CEOSE officers

• A Conversation with Dr. Subra Suresh, Director and Dr. Cora B. Marrett, Deputy Director of the National Science Foundation

• Reports of CEOSE Liaisons to NSF Advisory Committees

• Discussion by Federal Agency Liaisons and working group representatives about interagency broadening participation activities

• Discussion about the 2011-2012 biennial CEOSE report

Wednesday, October 31, 2012

Opening Statement by the CEOSE Chair

Presentations, Discussions, and Reports

• Broadening Participation Activities of NSF Centers and MRI Program

• NSF Diversity and Inclusion Strategic Plan

• Discussion about the biennial report continued

• Discussion on CEOSE Unfinished Business and New Business

Dated: October 4, 2012.
Susanne Bolton,
Committee Management Officer.

[FR Doc. 2012-24933 Filed 10-10-12; 8:45 am]

BILLING CODE 7555-01-P